FEDERAL COMMUNICATIONS COMMISSION

Sunshine Act Meeting; Open Commission Meeting Scheduled for Friday, August 22, 2008, Cancelled

August 22, 2008.

The Federal Communications Commission has cancelled the Open Meeting on the subject listed below, and previously scheduled for Friday, August 22, 2008, at 445 12th Street, SW., Washington, DC. This item was previously listed in the Commission's Notice of August 15, 2008, 73 FR 49200, August 20, 2008.

Item No. | Bureau | Subject
2 | Wireline Competition | Title: Implementation of the NET 911 Improvement Act.
|  | Summary: The Commission will consider a Notice of Proposed Rulemaking regarding implementation of the New and Emerging Technologies 911 Improvement Act of 2008.

Additional information concerning this meeting may be obtained from Audrey Spivack or David Fiske, Office of Media Relations, (202) 418-0500; TTY 1-888-835-5322.

Federal Communications Commission.
William F. Caton,
Deputy Secretary.

[FR Doc. E8-19981 Filed 8-26-08; 4:15 pm]

BILLING CODE 6712-01-P